NATIONAL AERONAUTICS AND SPACE ADMINISTRATION

[Notice 01-138]

NASA Advisory Council (NAC); Meeting

AGENCY: National Aeronautics and Space Administration.

ACTION: Notice of meeting.

SUMMARY: In accordance with the Federal Advisory Committee Act, Pub. L. 92-463, as amended, the National Aeronautics and Space Administration announces an open meeting of the NASA Advisory Council (NAC).

DATES: Tuesday, November 6, 2001, 11 a.m.-5 p.m. Eastern Standard Time.

ADDRESS: NASA Headquarters, 300 E Street, SW., Room 9H40, Washington, DC 20546.

FOR FURTHER INFORMATION CONTACT: Mr. Philip Cleary, Code IC, National Aeronautics and Space Administration, Washington, DC 20546-0001, 202/358-4461.

SUPPLEMENTARY INFORMATION: This meeting will be open to the public up to the seating capacity of the room. The agenda for the meeting is to review and discuss the report of the International Space Station Management and Cost Evaluation (IMCE) Task Force. After the IMCE Task Force presents its findings and recommendations, the NASA Administrator will provide his comments to the report. The meeting will conclude with deliberation of the report by the NAC.

The planned release date of the IMCE Task Force report is November 2, 2001. A copy of the report may be obtained by contacting Mr. Daniel Hedin, Code ML, 202/358-1691, or by accessing ftp://ftp.hq.nasa.gov/pub/pao/reports/2001/imce.pdf.

Exceptional circumstances require that this meeting be held on November 6, 2001. A congressional hearing regarding this report is expected in early November 2001, and it is appropriate for the NAC to receive and discuss the results of the IMCE Task Force prior to any formal congressional review. Review and discussion by the NAC at this time, with the opportunity for members of the public to participate, will allow consideration of appropriate actions in response to the findings and recommendations in a timely manner for submission with the Agency's Fiscal Year 2003 budget request.

Following the meeting on November 6, 2001, the NAC will continue to consider the IMCE Task Force report at its next meeting, planned for early December 2001. Due to increased security measures at NASA Headquarters, please contact Ms. Kathy Dakon at 202/358-0732 if you plan to attend the meeting. Visitors will be requested to sign a visitor's register and will require escort within the NASA Headquarters building.

Beth M. McCormick,
Advisory Committee Management Officer, National Aeronautics and Space Administration.

[FR Doc. 01-27461 Filed 10-29-01; 3:56 pm]

BILLING CODE 7510-01-P